DEPARTMENT OF HEALTH AND HUMAN SERVICES

Agency for Healthcare Research and Quality

Notice of Senior Executive Service Performance Review Board Membership

The Agency for Healthcare Research and Quality (AHRQ) announces the appointment of members to the AHRQ Senior Executive Service (SES) Performance Review Board (PRB). This action is being taken in accordance with Title 5, U.S.C., Section 4314(c)(4) of the Civil Service Reform Act of 1978, which requires members of the performance review boards to be published in the Federal Register.

The function of the PRB is to ensure consistency, stability and objectivity in the SES performance appraisals, and to make recommendations to the Director, AHRQ, relating to the performance of senior executives in the Agency.

The following persons will serve on the AHRQ SES Performance Review Board: Helen Burstin, Francis Chesley, Steven Cohen, J. Michael Fitzmaurice, Irene Fraser, George Grob, Kathleen Kendrick, Anna Marsh, Robert McSwain, William Munier, Jean Slutsky, Christine Williams, and Phyllis Zucker.

For further information about the AHRQ Performance Review Board, contact Mr. Jeffrey Toven, Office of Performance, Accountability, Resources, and Technology, Agency for Healthcare Research and Quality, 540 Gaither Road, Suite 4329, Rockville, Maryland 20850.

Dated: October 18, 2005.
Carolyn M. Clancy,
Director, AHRQ.

[FR Doc. 05-21472 Filed 10-26-05; 8:45 am]

BILLING CODE 4160-90-M